DEPARTMENT OF JUSTICE

Antitrust Division

Notice Pursuant to the National Cooperative Research and Production Act of 1993—Vehicle Safety Communications 8 Consortium

Notice is hereby given that, on October 13, 2017, pursuant to Section 6(a) of the National Cooperative Research and Production Act of 1993, 15 U.S.C. 4301 et seq. (“the Act”), Vehicle Safety Communications 8 Consortium (“VSC8 Consortium”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: General Motors Holdings LLC, Warren, MI; Ford Motor Company, Dearborn, MI; Hyundai-Kia America Technical Center Inc., Superior Township, MI; and Nissan Technical Center North America, Farmington Hills, MI.

The general area of VSC8 Consortium's planned activity is collaboration to conduct or facilitate cooperative research, development, testing, and evaluation procedures to gain further knowledge and understanding of connected vehicle interactions and/or applications for vehicles that are intended to transform surface transportation safety, mobility, and environmental performance through a connected vehicle environment. VSC8 Consortium's objectives are to promote the interests of the automotive sector while maintaining impartiality, the independence of its members, and vendor neutrality.

Patricia A. Brink,
Director of Civil Enforcement, Antitrust Division.

[FR Doc. 2017-24549 Filed 11-9-17; 8:45 am]

BILLING CODE P